DEPARTMENT OF TRANSPORTATION

Federal Aviation Administration

14 CFR Part 39

[Docket No. FAA-2009-1015; Directorate Identifier 2009-CE-039-AD]

RIN 2120-AA64

Airworthiness Directives; Piper Aircraft, Inc. PA-28, PA-32, PA-34 and PA-44 Series Airplanes

AGENCY: Federal Aviation Administration (FAA), Department of Transportation (DOT).

ACTION: Notice of proposed rulemaking (NPRM).

SUMMARY: We propose to adopt a new airworthiness directive (AD) for certain Piper Aircraft, Inc. (Piper) PA-28, PA-32, PA-34 and PA-44 series airplanes. This proposed AD would require an inspection of the control wheel shaft for both the pilot and copilot sides and, if necessary, replacement of the control wheel shaft. This proposed AD results from two field reports of incorrectly assembled control wheel shafts. We are proposing this AD to detect and correct any incorrectly assembled control wheel shafts. This condition, if left uncorrected, could lead to separation of the control wheel shaft, resulting in loss of pitch and roll control.

DATES: We must receive comments on this proposed AD by December 29, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Piper Aircraft, Inc., 2926 Piper Drive, Vero Beach, Florida 32960; telephone: (772) 567-4361; fax: (772) 978-6573; Internet: http://www.newpiper.com/company/publications.asp.

FOR FURTHER INFORMATION CONTACT: Hector Hernandez, Aerospace Engineer, Atlanta Aircraft Certification Office (ACO), 1701 Columbia Avenue, College Park, GA 30337; telephone: (404) 474-5587; fax: (404) 474-5606.

SUPPLEMENTARY INFORMATION:

Comments Invited

We invite you to send any written relevant data, views, or arguments regarding this proposed AD. Send your comments to an address listed under the ADDRESSES section. Include the docket number, “FAA-2009-1015; Directorate Identifier 2009-CE-039-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have received two reports of control wheel shafts that have been incorrectly assembled at Piper. The first incident concerned the loss of the control wheel on a Piper Model PA-34-220T airplane, where the right-hand control wheel shaft and universal joint separated due to a misdrilled hole for the threaded taper pin. The second report was of a ground inspection on a Piper PA-34-220T airplane that revealed a similar situation between the control wheel shaft and the universal joint in the left-hand side. Investigation following these reports revealed that the control wheel shafts had been incorrectly assembled at Piper and holes were misdrilled even though they may visually appear acceptable. The hole in the shaft may be too close to the end of the shaft, causing a significant reduction in joint strength. Since discovery of this problem, Piper has added a step to the manufacturing process and also introduced a fixture to ensure proper assembly of the control wheel shaft/universal joint.

This condition, if not corrected, could result in separation of the control wheel shaft, resulting in loss of pitch and roll control.

Relevant Service Information

We have reviewed Piper Aircraft, Inc. Service Bulletin No. 1197A, dated September 1, 2009.

The service information describes procedures for:

• Inspection on both the pilot and copilot control wheel columns; and

• If necessary, replacement of the control wheel shaft and the universal joint.

FAA's Determination and Requirements of the Proposed AD

We are proposing this AD because we evaluated all information and determined the unsafe condition described previously is likely to exist or develop on other products of the same type design. This proposed AD would require a mandatory inspection of the control wheel shaft for both the pilot and copilot sides. This proposed AD results from two field reports of incorrectly assembled control wheel shafts. We are proposing this AD to detect and correct any incorrectly assembled control wheel shafts. This condition, if left uncorrected, could lead to separation of the control wheel shaft, resulting in loss of pitch and roll control.

Costs of Compliance

We estimate that this proposed AD would affect 41,928 airplanes in the U.S. registry.

We estimate the following costs to do the proposed inspection:

Labor cost | Parts cost | Total cost per airplane | Total cost on U.S. operators
0.5 work-hour × $80 per hour = $40 | Not applicable | $40 | $1,677,120

We estimate the following costs to do any necessary replacements that would be required based on the results of the proposed inspection. We have no way of determining the number of airplanes that may need this repair/replacement:

Labor cost | Parts cost | Total cost per airplane
16 work-hours × $80 per hour = $1,280 | $150 | $1,430

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Piper Aircraft, Inc.: Docket No. FAA-2009-1015; Directorate Identifier 2009-CE-039-AD.

Comments Due Date

(a) We must receive comments on this airworthiness directive (AD) action by December 29, 2009.

Affected ADs

(b) None.

Applicability

(c) This AD applies to the following airplane models and serial numbers that are certificated in any category:

Models | Serial Nos.
PA-28-140 | 28-20001 through 28-26946 and 28-7125001 through 28-7725290.
PA-28-150 | 28-03; 28-1 through 28-4377; and 28-1760A.
PA-28-160 | 28-03; 28-1 through 28-4377; and 28-1760A.
PA-28-180 | 28-03; 28-671 through 28-5859; and 28-7105001 through 28-7205318.
PA-28S-160 | 28-1 through 28-1760 and 28-1760A.
PA-28S-180 | 28-671 through 28-5859 and 28-7105001 through 28-7105234.
PA-28-235 | 28-10001 through 28-11378; 28-7110001 through 28-7210023; 28E-11 and 28-7310001 through 28-7710089.
PA-28-236 | 28-7911001 through 28-8611008 and 2811001 through 2811050.
PA-28-151 | 28-7415001 through 28-7715314.
PA-28-161 | 2841001 through 2841365; 28-7716001 through 28-8216300; 28-8316001 through 28-8616057; 2816001 through 2816109; 2816110 through 2816119; and 2842001 through 2842305.
PA-28-180 | 28-E13 and 28-7305001 through 28-7505260.
PA-28-181 | 28-7690001 through 28-8690056; 28-8690061; 28-8690062; 2890001 through 2890205; 2890206 through 2890231; and 2843001 through 2843672.
PA-28-201T | 28-7921001 through 28-7921095.
PA-28R-180 | 28R-30002 through 28R-31270 and 28R-7130001 through 28R-7130013.
PA-28R-200 | 28R-35001 through 28R-35820; 28R-7135001 through 28R-7135229; and 28R-7235001 through 28R-7635545.
PA-28R-201 | 28R-7737002 through 28R-7837317; 2837001 through 2837061; and 2844001 through 2844138.
PA-28R-201T | 28R-7703001 through 28R-7803374 and 2803001 through 2803012.
PA-28RT-201 | 28R-7918001 through 28R-7918267 and 28R-8018001 through 28R-8218026.
PA-28RT-201T | 28R-7931001 through 28R-8631005 and 2831001 through 2831038.
PA-32-260 | 32-03; 32-04; 32-1 through 32-1297; and 32-7100001 through 32-7800008.
PA-32-300 | 32-15; 32-21; 32-40000 through 32-40974; and 32-7140001 through 32-7940290.
PA-32S-300 | 32S-15; 32S-40000 through 32S-40974; and 32S-7140001 through 32S-7240137.
PA-32R-300 | 32R-7680001 through 32R-7880068.
PA-32RT-300 | 32R-7885002 through 32R-7985106.
PA-32RT-300T | 32R-7787001 and 32R-7887002 through 32R-7987126.
PA-32R-301 (SP) | 32R-8013001 through 32R-8613006; 3213001 through 3213028; and 3213030 through 3213041.
PA-32R-301 (HP) | 3213029; 3213042 through 3213103; 3246001 through 3246217; 3246219; 3246223; 3246218; 3246220 through 3246222; and 3246224 through 3246244.
PA-32R-301T | 32R-8029001 through 32R-8629008 and 3229001 through 3229003.
PA-32-301 | 32-8006002 through 32-8606023; 3206001 through 3206019; 3206042 through 3206044; 3206047; 3206050 through 3206055; and 3206060.
PA-32-301T | 32-8024001 through 32-8424002.
PA-32R-301T | 3257001 through 3257483.
PA-32-301FT | 3232001 through 3232074.
PA-32-301XTC | 3255001 through 3255014; 3255026, 3255015 through 3255025; 3255027; and 3255051.
PA-34-200 | 34-E4 and 34-7250001 through 34-7450220.
PA-34-200T | 34-7570001 through 34-8170092.
PA-34-220T | 34-8133001 through 34-8633031; 3433001 through 3433172; 3448001 through 3448037; 3448038 through 3448079; 3447001 through 3447029; and 3449001 through 3449377.
PA-44-180 | 44-7995001 through 44-8195026; 4495001 through 4495013; and 4496001 through 4496251.
PA-44-180T | 44-8107001 through 44-8207020.

Unsafe Condition

(d) This AD results from two field reports of incorrectly assembled control wheel shafts. We are issuing this AD to detect and correct any incorrectly assembled control wheel shafts. This condition, if left uncorrected, could lead to separation of the control wheel shaft, resulting in loss of pitch and roll control.

Compliance

(e) To address this problem, you must do the following, unless already done:

Actions | Compliance | Procedures
(1) Inspect the pilot and copilot control wheel columns for correct control wheel shaft installation | Within 100 hours time-in-service (TIS) after the effective date of this AD or within 60 days after the effective date of this AD, whichever occurs first | Follow Piper Aircraft, Inc. Mandatory Service Bulletin No. 1197A, dated September 1, 2009.
(2) If during the inspection required in paragraph (e)(1) of this AD an incorrectly installed control wheel shaft is found, replace the appropriate shaft with a new shaft | Before further flight after any inspection that finds incorrect installation of the control wheel shaft | Follow Piper Aircraft, Inc. Mandatory Service Bulletin No. 1197A, dated September 1, 2009.
(3) Inspect the universal joint when doing the action required in (e)(2) of this AD, and if any deterioration, excessive wear, or damage is found, replace the universal joint with a new universal joint | Before further flight after any inspection that finds incorrect installation of the control wheel shaft | Follow Piper Aircraft, Inc. Mandatory Service Bulletin No. 1197A, dated September 1, 2009.

Alternative Methods of Compliance (AMOCs)

(f) The Manager, Atlanta Aircraft Certification Office (ACO), FAA, has the authority to approve AMOCs for this AD, if requested using the procedures found in 14 CFR 39.19. Send information to Attn: Hector Hernandez, Aerospace Engineer, Atlanta Aircraft Certification Office (ACO), 1701 Columbia Avenue, College Park, GA 30337; telephone: (404) 474-5587; fax: (404) 474-5606. Before using any approved AMOC on any airplane to which the AMOC applies, notify your appropriate principal inspector (PI) in the FAA Flight Standards District Office (FSDO), or lacking a PI, your local FSDO.

Related Information

(g) To get copies of the service information referenced in this AD, contact Piper Aircraft, Inc., 2926 Piper Drive, Vero Beach, Florida 32960; telephone: (772) 567-4361; fax: (772) 978-6573; Internet: http://www.newpiper.com/company/publications.asp. To view the AD docket, go to U.S. Department of Transportation, Docket Operations, M-30, West Building Ground Floor, Room W12-140, 1200 New Jersey Avenue, SE., Washington, DC 20590, or on the Internet at http://www.regulations.gov.

Issued in Kansas City, Missouri, on October 23, 2009.
Kim Smith,
Manager, Small Airplane Directorate, Aircraft Certification Service.

[FR Doc. E9-26200 Filed 10-29-09; 8:45 am]

BILLING CODE 4910-13-P